DEPARTMENT OF LABOR

Employment Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed revision of the collection of the Occupational Code Request (OCR) that is being renamed Occupational Code Assignment (OCA) information. A copy of the proposed information collection request (ICR) can be obtained by contacting the office listed below in the addressee section of this notice.

DATES: Written comments must be submitted to the office listed in the addresses section below on or before 60 days after date of publication in the Federal Register.

ADDRESSES: Pam Frugoli, Office of Policy Development, Evaluation and Research, Employment Training Administration, Room N-5637, 200 Constitution Avenue, NW., Washington, DC 20210, 202/693-3643 (This is not a toll-free number), Fax 202/693-2766, and e-mail o-net@dol.gov.

SUPPLEMENTARY INFORMATION:

I. Background

The Occupational Analysis program developed the Occupational Code Request (OCR) form as a public service to the users of the revised Dictionary of Occupational Titles (DOT) in an effort to help them in obtaining occupational codes and titles for jobs that they were unable to locate in the DOT. With the development and release of the Occupational Information Network (O*NET) system, some modifications were needed to make the OCR form correlate more closely to the information in the O*NET system. The OCR form, with these modifications, has been renamed the Occupational Code Assignment (OCA) form.

The O*NET system classifies nearly all jobs in the United States economy. However, new specialties are constantly evolving and emerging. The use of OCA is voluntary and is provided (1) as a uniform format to the public and private sector to submit information in order to receive an occupational code, (2) to provide input to a database of alternate (lay) titles to facilitate searches for occupational information in O*NET OnLine. (http://online.onetcenter.org), O*NET Code Connector (http://www.onetcodeconnector.org) as well as America's Career InfoNet (http://www.acinet.org), and (3) to assist the O*NET system in identifying potential occupations that may need to be included in future O*NET data collection efforts.

The OCA process is designed to help the occupational information user relate an occupational speciality or a job title to an occupational code and title within the framework of the Standard Occupational Classification (SOC) based O*NET system. The O*NET-SOC system consists of a database that organizes the work done by individuals into approximately 1,000 occupational categories. In addition, O*NET occupations have associated data on the importance and level of a range of occupational characteristics and requirements, including Knowledge, Skills, Abilities, Tasks, and Work Activities. Since the O*NET-SOC code and title also facilitates linkage to national, state, and local occupational employment and wage estimates.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

ETA seeks to provide both the public and private sectors with the capability to make occupational coding inquiries. Members of the public sometimes need to know where their own occupational speciality or job title fits within the O*NET-SOC system. Therefore, a continuing need exists for this service.

The occupational analyst uses the information collection in form ETA 741—Occupational Code Assignment—Part A and Occupational Code Assignment—Request for Additional Information to aid them in assigning the most appropriate occupational code and title to the job or specialty described in the information submitted.

The form was changed in order to correlate more closely with the information in the O*NET system. For example, the OCA form requests new information items including skills, physical activities, knowledge areas, interactions, education, and training and experience.

Type of Review: Revision.

Agency: Employment and Training Administration.

Title: Occupational Code Assignment.

OMB Number: 1205-0137.

Affected Public: Federal government, State and local government, business or other for-profit/not-for profit institutions, and individuals.

Cite/Reference/Form/etc.: Occupational Code Request form was form ETA 741. The “Occupational Code Assignment—Part A” is the name of the newly revised form. The “Occupational Code Assignment—Request for Additional Information” is a newly added form. It will be used only in situations where more detailed information is needed to make an occupation code assignment. See chart below.

Total Respondents: 177.

Frequency: On occasion.

Total Responses: 177.

Average Time per Response: 30 minutes for the OCA—Part A; and 40 minutes for OCA—Part A and the OCA—Request for Additional Information combined.

Estimated Total Burden Hours: 92.

Cite/reference | Total respondents | Frequency | Total responses | Average time per response (hours) | Burden (hours)
OCA—Part A | 159 | On occasion | 159 | .5 | 79.5
OCA—Part A and OCA—Request for additional information | 18 | On occasion | 18 | .67 | 12
Totals |  |  | 177 |  | 91.5

Total Burden Cost (capital/startup): $0.

Total Burden Cost (operating/maintaining): $95.06.

Comments submitted in response to this comment request will be summarized and/or included in the request for Office of Management and Budget approval of the information collection request; they will also become a matter of public record.

Dated: July 22, 2003.
Maria K. Fynn,
Acting Administrator, Office of Policy Development, Evaluation and Research Employment and Training Administration.

[FR Doc. 03-19218 Filed 7-28-03; 8:45 am]

BILLING CODE 4510-30-M